INTERNATIONAL TRADE COMMISSION

[Investigation No. 337-TA-1364 (Enforcement)]

Certain Blood Flow Restriction Devices With Rotatable Windlasses and Components Thereof; Notice of Institution of Formal Enforcement Proceeding

AGENCY: U.S. International Trade Commission.

ACTION: Notice.

SUMMARY: Notice is hereby given that the U.S. International Trade Commission (“Commission”) has determined to institute a formal enforcement proceeding relating to cease and desist orders (“CDOs”) issued on September 30, 2024, and corrected on October 8, 2024, in the above-referenced investigation.

FOR FURTHER INFORMATION CONTACT: Edward S. Jou, Esq., Office of the General Counsel, U.S. International Trade Commission, 500 E Street SW, Washington, DC 20436, telephone (202) 205-3316. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted the underlying investigation on May 31, 2023, based on a complaint, as supplemented, filed by Composite Resources, Inc. and North American Rescue, LLC (collectively, “Complainants”). 88 FR 34893-95 (May 31, 2023). The Commission determined to investigate alleged violations of section 337 of the Tariff Act of 1930, as amended, 19 U.S.C. 1337 (“section 337”), based upon the importation into the United States, the sale for importation, and the sale within the United States after importation of certain blood flow restriction devices with rotatable windlasses and components thereof that infringe certain claims of U.S. Patent No. 7,842,067 (“the '067 patent”), U.S. Patent No. 8,888,807 (“the '807 patent”), and U.S. Patent No. 10,016,203 (“the '203 patent”); as well as United States Trademark Registration Nos. 3,863,064 and 5,046,378 (“Asserted Trademarks”); and whether an industry in the United States exists as required by the applicable Federal statute. The Commission also determined to investigate alleged violations of section 337 based upon the importation into the United States, and in the sale of, certain blood flow restriction devices with rotatable windlasses and components thereof that infringe certain trade dress (“Asserted Trade Dress”) in violation of Section 43(a) of the Lanham Act (15 U.S.C. 1125) the threat or effect of which is to destroy or substantially injure a domestic industry. Id. at 34893-94. The Commission's notice of investigation named thirty (30) respondents. Id. at 34894. The Office of Unfair Import Investigations (“OUII”) was also named as a party. Id.

Two named respondents were terminated based on the entry of consent orders. See Order No. 7 (Aug. 9, 2023), unreviewed by Comm'n Notice (Sept. 5, 2023); Order No. 13 (Oct. 3, 2023), unreviewed by Comm'n Notice (Nov. 2, 2023). Twelve (12) named respondents were terminated based on withdrawal of the complaint after those respondents were unable to be served. See Order No. 10 (Aug. 22, 2023), unreviewed by Comm'n Notice (Sept. 20, 2023). The remaining respondents were found in default. See Order No. 11 (Aug. 29, 2023), unreviewed by Comm'n Notice (Sept. 22, 2023).

Complainants withdrew many of their patent infringement allegations, including all allegations with respect to the '807 patent and '203 patent. See Order No. 14 (Nov. 2, 2023), unreviewed by Comm'n Notice (Dec. 4, 2023); Order No. 19 (Jan. 25, 2024), unreviewed by Comm'n Notice (Feb. 15, 2024).

On December 22, 2023, Complainants filed a motion for summary determination on violation of section 337, which was granted-in-part with respect to infringement of claims 1, 4, 15, and 16 of the '067 patent. Order No. 20 (Feb. 7, 2024), unreviewed by Comm'n Notice (Mar. 6, 2024).

On September 30, 2024, the Commission determined to issue a general exclusion order prohibiting the importation into the United States of certain blood flow restriction devices with rotatable windlasses and components thereof that infringe one or more of claims 1, 4, 15, and/or 16 of the '067 patent, a limited exclusion order with respect to defaulting respondents for infringement of the Asserted Trademarks and Asserted Trade Dress, and CDOs directed to certain respondents with respect to infringement of claims 1, 4, 15, and/or 16 of the '067 patent, the Asserted Trademarks, and the Asserted Trade Dress. See 89 FR 80930-31 (Oct. 4, 2024); Corrected Comm'n Op. (Oct. 8, 2024).

On February 13, 2025, Complainants filed a complaint (the “Enforcement Complaint”) requesting that the Commission institute an enforcement proceeding under Commission Rule 210.75 to investigate alleged violations of the CDOs that were issued to Rhino, Inc. (“Rhino”) of Lewes, Delaware and Wuxi Emsrun Technology Co., Ltd. (“Wuxi Emsrun”) of Wuxi City, China. In the Enforcement Complaint, Complainants allege that Rhino and Wuxi Emsrun have continued to sell articles that infringe claims 1, 4, 15, and 16 of the '067 patent and/or the Asserted Trade Dress in violation of the CDOs.

Having examined the Enforcement Complaint and the supporting documents, the Commission has determined to institute a formal enforcement proceeding, pursuant to Commission Rule 210.75(a) (19 CFR 210.75(a)), to determine whether a violation of the CDOs issued to Rhino and Wuxi Emsrun in this investigation has occurred and to determine what, if any, enforcement measures are appropriate. The named respondents are Rhino and Wuxi Emsrun. OUII is also named as a party.

The Commission vote for this determination took place on March 17, 2025.

The authority for the Commission's determination is contained in section 337 of the Tariff Act of 1930, as amended (19 U.S.C. 1337), and in Part 210 of the Commission's Rules of Practice and Procedure (19 CFR part 210).

By order of the Commission.
Issued: March 17, 2025.
Lisa Barton,
Secretary to the Commission.

[FR Doc. 2025-04822 Filed 3-20-25; 8:45 am]

BILLING CODE 7020-02-P